DEPARTMENT OF TRANSPORTATION

Federal Aviation Administration

14 CFR Part 39

[Docket No. FAA-2012-0773; Directorate Identifier 2009-SW-71-AD; Amendment 39-17352; AD 2013-03-18]

RIN 2120-AA64

Airworthiness Directives; Eurocopter Deutschland GmbH Helicopters

AGENCY: Federal Aviation Administration (FAA), DOT.

ACTION: Final rule.

SUMMARY: We are adopting a new airworthiness directive (AD) for Eurocopter Deutschland GmbH (Eurocopter) Model MBB-BK 117 C-2 helicopters. This AD requires inspecting the long tail rotor drive shaft assembly for blind rivets, and if any blind rivets are installed, replacing that shaft assembly. This AD was prompted by the discovery that some helicopters have blind rivets installed in the place of solid rivets in the long tail rotor drive shaft. The actions of this AD are intended to detect blind rivets installed in the long tail rotor drive shaft, which could lead to failure of the tail rotor drive shaft and subsequent loss of control of the helicopter.

DATES: This AD is effective June 5, 2013.

The Director of the Federal Register approved the incorporation by reference of a certain document listed in this AD as of June 5, 2013.

ADDRESSES: For service information identified in this AD, contact American Eurocopter Corporation, 2701 N. Forum Drive, Grand Prairie, Texas 75052; telephone (972) 641-0000 or (800) 232-0323; fax (972) 641-3775; or at http://www.eurocopter.com/techpub. You may review the referenced service information at the FAA, Office of the Regional Counsel, Southwest Region, 2601 Meacham Blvd., Room 663, Fort Worth, Texas 76137.

Examining the AD Docket

You may examine the AD docket on the Internet at http://www.regulations.gov or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Jim Grigg, Manager, Safety Management Group, Rotorcraft Directorate, FAA, 2601 Meacham Blvd., Fort Worth, Texas 76137; telephone (817) 222-5110; email jim.grigg@faa.gov.

SUPPLEMENTARY INFORMATION:

Discussion

On July 26, 2012, at 77 FR 43736, the Federal Register published our notice of proposed rulemaking (NPRM), which proposed to amend 14 CFR part 39 to include an AD that would apply to Eurocopter Model MBB-BK 117 C-2 helicopters. That NPRM proposed to require, within 100 hours time-in-service (TIS), inspecting the long tail rotor drive shaft assembly for blind rivets. If there are no blind rivets installed on the shaft assembly, no further action would be required by the AD. If there are one or more blind rivets installed on the shaft assembly, the NPRM proposed to require replacing the shaft assembly of the long tail rotor drive with an airworthy shaft assembly before further flight. The proposed requirements were intended to prevent failure of the tail rotor drive shaft and subsequent loss of control of the helicopter.

The European Aviation Safety Agency (EASA), which is the Technical Agent for the Member States of the European Union, issued EASA AD No. 2009-0119, dated June 4, 2009, to correct an unsafe condition for the Eurocopter Model MBB-BK 117 C-2 helicopters. EASA advises that an error was discovered in the Eurocopter aircraft maintenance manual (AMM), which erroneously specifies replacing the solid rivets on the long tail rotor drive shaft with blind rivets. All delivered helicopters had the long tail rotor drive shafts installed during production fitted with the correct solid rivets. The long tail rotor drive shafts repaired in-service in accordance with the AMM may have blind rivets installed. This condition, if not corrected, could lead to a significant reduction of the life of the long tail rotor drive shaft, failure of the long tail rotor drive shaft, and subsequent loss of control of the helicopter.

Comments

We gave the public the opportunity to participate in developing this AD, but we did not receive any comments on the NPRM (77 FR 43736, July 26, 2012).

FAA's Determination

This helicopter has been approved by the aviation authority of Germany and is approved for operation in the United States. Pursuant to our bilateral agreement with Germany, EASA, its technical representative, has notified us of the unsafe condition described in the EASA AD. We are issuing this AD because we evaluated all information provided by EASA and determined the unsafe condition exists and is likely to exist or develop on other helicopters of the same type design and that air safety and the public interest require adopting the AD requirements as proposed except we are incorporating a figure by reference instead of including it in our AD to meet current publication requirements. This change is consistent with the intent of the proposals in the NPRM (77 FR 43736, July 26, 2012) and will not increase the economic burden on any operator nor increase the scope of the AD.

Differences Between This AD and the EASA AD

This AD uses the term “TIS” instead of “flight hours.”

Related Service Information

Eurocopter has issued Alert Service Bulletin No. MBB BK117 C-2-65A-003, dated May 4, 2009 (ASB), which specifies inspecting long tail rotor drive shafts to determine what type of rivets are installed. If one or more blind rivets are installed, the ASB specifies replacing the long tail rotor drive shaft assembly with a serviceable long tail rotor drive shaft assembly. EASA classified this ASB as mandatory and issued EASA AD No. 2009-0119, dated June 4, 2009, to ensure the continued airworthiness of these helicopters.

Costs of Compliance

We estimate that this AD will affect 88 helicopters of U.S. registry. We estimate that operators may incur the following costs in order to comply with this AD:

• It will take about 2 work hours to inspect and replace the long tail rotor drive shaft at an average labor rate of $85 per work hour.

• Required parts to replace each long tail rotor drive shaft assembly cost about $4,600 each.

Based upon these figures, the total cost per helicopter would be $4,770. The total cost for the entire U.S. fleet would be $419,760, assuming that the long tail rotor drive shaft assembly is required to be replaced on the entire fleet.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2013-03-18 Eurocopter Deutschland GmbH (Eurocopter): Amendment 39-17352; Docket No. FAA-2012-0773; Directorate Identifier 2009-SW-71-AD.

(a) Applicability

This AD applies to Model MBB-BK 117 C-2 helicopters, with long tail rotor drive shaft assembly part number B651M1002101 or B651M1002102 installed, certificated in any category.

(b) Unsafe Condition

This AD defines the unsafe condition as the installation of blind rivets instead of solid rivets in the long tail rotor drive shaft. This condition could result in failure of the long tail rotor drive shaft and subsequent loss of control of the helicopter.

(c) Effective Date

This AD becomes effective June 5, 2013.

(d) Compliance

You are responsible for performing each action required by this AD within the specified compliance time unless it has already been accomplished prior to that time.

(e) Required Actions

Within 100 hours time-in-service, inspect the long tail rotor drive shaft assembly for blind rivets as indicated in sections A-A and B-B of Figure 1 of Eurocopter Alert Service Bulletin No. MBB BK117 C-2-65A-003, dated May 4, 2009 (ASB).

(1) If there are no blind rivets installed on the shaft assembly, no further action is required by this AD.

(2) If there is one or more blind rivets installed on the shaft assembly in the areas depicted in Figure 1 of the ASB, before further flight, replace the shaft assembly of the long tail rotor drive shaft with an airworthy shaft assembly that does not have blind rivets installed.

(3) After the effective date of this AD, do not install a tail rotor drive shaft assembly that has blind rivets installed.

(f) Alternative Methods of Compliance (AMOCs)

(1) The Manager, Safety Management Group, FAA, may approve AMOCs for this AD. Send your proposal to: Jim Grigg, Manager, Safety Management Group, Rotorcraft Directorate, FAA, 2601 Meacham Blvd., Fort Worth, Texas 76137; telephone (817) 222-5110; email jim.grigg@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in European Aviation Safety Agency AD No. 2009-0119, dated June 4, 2009.

(h) Subject

Joint Aircraft System/Component (JASC) Code: 6510, Tail Rotor Drive Shaft.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Eurocopter Alert Service Bulletin No. MBB BK117 C-2-65A-003, dated May 4, 2009.

(ii) Reserved.

(3) For Eurocopter service information identified in this AD, contact American Eurocopter Corporation, 2701 N. Forum Drive, Grand Prairie, Texas 75052; telephone (972) 641-0000 or (800) 232-0323; fax (972) 641-3775; or at http://www.eurocopter.com/techpub.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on April 12, 2013.
Lance T. Gant,
Acting Directorate Manager, Rotorcraft Directorate, Aircraft Certification Service.

[FR Doc. 2013-09433 Filed 4-30-13; 8:45 am]

BILLING CODE 4910-13-P